DEPARTMENT OF JUSTICE

Drug Enforcement Administration

[Docket No. DEA-549]

Importer of Controlled Substances Application: Mylan Technologies Inc.

ACTION: Notice of application.

DATES: Registered bulk manufacturers of the affected basic classes, and applicants therefore, may file written comments on or objections to the issuance of the proposed registration on or before December 23, 2019. Such persons may also file a written request for a hearing on the application on or before December 23, 2019.

ADDRESSES: Written comments should be sent to: Drug Enforcement Administration, Attention: DEA Federal Register Representative/DPW, 8701 Morrissette Drive, Springfield, Virginia 22152. All requests for a hearing must be sent to: Drug Enforcement Administration, Attn: Administrator, 8701 Morrissette Drive, Springfield, Virginia 22152. All requests for a hearing should also be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152.

SUPPLEMENTARY INFORMATION: In accordance with 21 CFR 1301.34(a), this is notice that on October 16, 2019, Mylan Technologies Inc., 110 Lake Street, Saint Albans, Vermont 054780 applied to be registered as an importer of the following basic classes of controlled substances:

Controlled substance | Drug code | Schedule
Methylphenidate | 1724 | II
Fentanyl | 9801 | II

The company plans to import the listed controlled substances in finished dosage form (FDF) from foreign sources for analytical testing and clinical trials in which the foreign FDF will be compared to the company's own domestically-manufactured FDF. This analysis is required to allow the company to export domestically manufactured FDF to foreign markets.

Dated: November 8, 2019.
William T. McDermott,
Assistant Administrator.

[FR Doc. 2019-25405 Filed 11-21-19; 8:45 am]

BILLING CODE 4410-09-P